DEPARTMENT OF HOUSING AND URBAN DEVELOPMENT

[Docket No. FR-5539-D-01]

Delegation Authority for the Office of the Chief Financial Officer

AGENCY: Office of the Secretary, HUD.

ACTION: Notice of delegation of authority.

SUMMARY: In this notice, the Secretary of HUD, pursuant to the Chief Financial Officers Act of 1990 (CFO Act), which established the position of the Chief Financial Officer within HUD, is delegating authority to the Chief Financial Officer for certain responsibilities with respect to the financial management activities, systems, and operations of the Department.

DATES: Effective Date: August 19, 2011.

FOR FURTHER INFORMATION CONTACT: Laura Moore-Rush, Acting Deputy Director, Office of the Chief Financial Officer Management Staff, Office of the Chief Financial Officer, Department of Housing and Urban Development, 451 Seventh Street, SW., Room 3120, Washington, DC 20410, telephone number 202-402-3638 (this is not a toll-free number). Persons with hearing or speech impairments may access this number through TTY by calling the Federal Relay Service at 800-877-8339.

SUPPLEMENTARY INFORMATION: The Secretary is delegating to the Chief Financial Officer those responsibilities enumerated in the CFO Act (31 U.S.C. 901 et seq.), and HUD's Fiscal Year (FY) 2003 Appropriations Act (Pub. L. 108-7, approved February 20, 2003), relating to the financial management activities related to the programs and operation of HUD.

Accordingly, the Secretary delegates as follows:

Section A. Authority Delegated

The Secretary hereby delegates the following responsibilities, functions, and duties to the Chief Financial Officer:

1. To serve as the principal advisor to the Secretary on financial management;

2. To supervise, coordinate, and establish policies to govern all financial management activities and operations of the Department consistent with the requirements of law and regulation; to oversee the development, administration, and coordination of the financial and accounting functions of the Department; and to issue such policies and directives as may be necessary to carry out the duties of the Chief Financial Officer;

3. To develop and maintain a financial management system for the Department (including accounting and related transaction systems; internal control systems; financial reporting systems; and credit, cash and debt management systems). To coordinate systems for audit compliance with external organizations that have responsibilities for the use and management of funds and other resources for which the Department has responsibility;

4. To provide direction to ensure the Department's compliance with Office of Management and Budget (OMB), Government Accountability Office (GAO), Department of the Treasury (Treasury), and legislative accounting and financial management requirements; and to strengthen internal accounting and administrative controls to prevent waste, fraud, and abuse in Federal programs;

5. To assist in the financial execution of the Department's budget in relation to actual expenditures and to prepare timely performance reports for senior managers;

6. To develop, maintain, and revise an annual plan to bring the financial management systems of the Department into full compliance with established policies and standards and to oversee execution of the plan; and to estimate resource requirements for the Office of the Chief Financial Officer for inclusion in the Department's budget requests;

7. To coordinate with the Inspector General to ensure that all Department financial activities are regularly audited, and to ensure that adopted recommendations related to Department financial management issues are promptly implemented;

8. To be responsible for the financial management needs of the Department, to report to the Congress and to external agencies such as OMB, the Treasury and the GAO on financial management performance, Department financial statements, and other information requests required by law and regulation, and to develop and maintain a departmental financial management information system;

9. To provide policy direction and guidance to the designated Comptrollers of principal Department organizational components, including the Federal Housing Administration (FHA), and Government National Mortgage Association (GNMA), as well as other departmental staff, with respect to financial management policies, standards, and responsibilities;

10. To process and sign Apportionments/Reapportionments Schedules and Advice of Allotments in accordance with applicable OMB Circulars;

11. Where not inconsistent with regulations pertaining to proceedings before administrative judges, to establish and maintain policies and procedures for claims collection and coordinate claims collection activities in the field offices and at Headquarters;

12. To appoint Disbursement and Certifying Officers to approve the disbursal of agency funds;

13. To serve as advisor to the Secretary and to other departmental officials in matters relating to budget formulation and execution, and to advise and assist program offices in their budgetary responsibilities and appraise the effectiveness of these activities; advise on budget and fiscal implications of policy and legislative proposals; and administer the issuance of staff ceilings and monitor staff usage in the Department;

14. To continue to ensure that HUD offices have an adequate system of funds control, including working with such offices to strengthen such controls to prevent or mitigate any potential Anti-deficiency Act (31 U.S.C. 1341 et seq.) violations; and

15. To implement and administer the Emergency Homeowners' Loan Program within the Emergency Homeowners' Relief Act, as amended (12 U.S.C. 2701 et seq.), in cooperation with HUD's Office of Policy Development and Research and HUD's Office of Housing.

The Secretary may revoke any discretionary authority authorized herein, in whole or part, at any time.

Section B. Authority Excepted

The authority delegated in this document does not include the authority to sue and be sued.

Section C. Authority To Redelegate

The Chief Financial Officer is authorized to retain or redelegate authorities delegated under Section A above to the Deputy Chief Financial Officer and/or the Assistant Chief Financial Officers in the Office of the Chief Financial Officer, with the exception of the authority to issue and waive regulations.

Section D. Authority Superseded

This delegation supersedes all prior delegations of authority from the Secretary to the Chief Financial Officer.

Authority: Section 7(d) of the Department of Housing and Urban Development Act (42 U.S.C. 3535(d)).

Dated: August 19, 2011.
Shaun Donovan,
Secretary.

[FR Doc. 2011-22183 Filed 8-29-11; 8:45 am]

BILLING CODE 4210-67-P